NATIONAL FOUNDATION ON THE ARTS AND THE HUMANITIES

National Endowment for the Arts

Arts Advisory Panel Meetings

AGENCY: National Endowment for the Arts, National Foundation on the Arts and Humanities.

ACTION: Notice of meeting.

SUMMARY: Pursuant to section 10(a)(2) of the Federal Advisory Committee Act (Pub. L. 92-463), as amended, notice is hereby given that 20 meetings of the Arts Advisory Panel to the National Council on the Arts will be held by teleconference from the National Endowment for the Arts, Constitution Center, 400 7th St. SW., Washington, DC 20506 as follows (all meetings are Eastern time and ending times are approximate):

DATES:

Visual Arts (review of applications): This meeting will be closed.

Dates: July 1, 2015; 11:30 a.m. to 1:30 p.m.

Visual Arts (review of applications): This meeting will be closed.

Dates: July 1, 2015; 2:30 p.m. to 4:30 p.m.

Theater and Musical Theater (review of applications): This meeting will be closed.

Dates: July 1, 2015; 12:00 p.m. to 2:00 p.m.

Theater and Musical Theater (review of applications): This meeting will be closed.

Dates: July 1, 2015; 3:00 p.m. to 5:00 p.m.

Theater and Musical Theater (review of applications): This meeting will be closed.

Dates: July 9, 2015; 12:00 p.m. to 2:00 p.m.

Arts Education (review of applications): This meeting will be closed.

Dates: July 9, 2015; 12:45 p.m. to 3:00 p.m.

Music (review of applications): This meeting will be closed.

Dates: July 14, 2015; 12:00 p.m. to 2:00 p.m.

Music (review of applications): This meeting will be closed.

Dates: July 14, 2015; 3:00 p.m. to 5:00 p.m.

Media Arts (review of applications): This meeting will be closed.

Dates: July 15, 2015; 11:30 a.m. to 1:30 p.m.

Media Arts (review of applications): This meeting will be closed.

Dates: July 15, 2015; 2:30 p.m. to 4:30 p.m.

Arts Education (review of applications): This meeting will be closed.

Dates: July 16, 2015; 1:45 p.m. to 3:30 p.m.

Museums (review of applications): This meeting will be closed.

Dates: July 16, 2015; 2:30 p.m. to 4:30 p.m.

Music (review of applications): This meeting will be closed.

Dates: July 16, 2015; 12:00 p.m. to 2:00 p.m.

Music (review of applications): This meeting will be closed.

Dates: July 16, 2015; 3:00 p.m. to 5:00 p.m.

Presenting and Multidisciplinary Works (review of applications): This meeting will be closed.

Dates: July 16, 2015; 12:00 p.m. to 2:00 p.m.

Museums (review of applications): This meeting will be closed.

Dates: July 17, 2015; 11:30 a.m. to 1:30 p.m.

Museums (review of applications): This meeting will be closed.

Dates: July 17, 2015; 2:30 p.m. to 4:30 p.m.

Music (review of applications): This meeting will be closed.

Dates: July 21, 2015; 3:00 p.m. to 5:00 p.m.

Arts Education (review of applications): This meeting will be closed.

Dates: July 23, 2015; 1:45 p.m. to 3:30 p.m.

Arts Education (review of applications): This meeting will be closed.

Dates: July 24, 2015; 1:45 p.m. to 3:30 p.m.

FOR FURTHER INFORMATION CONTACT: Further information with reference to these meetings can be obtained from Ms. Kathy Plowitz-Worden, Office of Guidelines & Panel Operations, National Endowment for the Arts, Washington, DC 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of title 5, United States Code.

Dated: June 9, 2015.
Kathy Plowitz-Worden,
Panel Coordinator, National Endowment for the Arts.

[FR Doc. 2015-14420 Filed 6-11-15; 8:45 am]

BILLING CODE 7537-01-P